DEPARTMENT OF DEFENSE

Office of the Secretary

[Transmittal No. 25-29]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-29, Policy Justification, and Sensitivity of Technology.

Dated: January 21, 2026.
Stephanie J. Bost,
Alternate OSD Federal Register Liaison Officer, Department of Defense.

BILLING CODE 6001-FR-P

BILLING CODE 6001-FR-C

Transmittal No. 25-29

Notice of Proposed Issuance of Letter of Offer Pursuant to Section 36(b)(1) of the Arms Export Control Act, as amended

(i) Prospective Purchaser: Government of Poland

(ii) Total Estimated Value:

Major Defense Equipment * | $110 million
Other | $ 70 million
TOTAL | $180 million

Funding Source: National Funds

(iii) Description and Quantity or Quantities of Articles or Services under Consideration for Purchase:

Major Defense Equipment (MDE):

One thousand four hundred (1,400) GBU-39/B Small Diameter Bombs (SDB-I)

Four (4) GBU-39 (T-1)/B inert practice bombs with fuzes

Non-Major Defense Equipment:

The following non-MDE items are also included: GBU-39 tactical training rounds; practice bombs; bomb components; containers; weapons system support; support and test equipment; spare parts, consumables and accessories, and repair and return support; classified and unclassified software delivery and support; classified and unclassified publications and technical data; personnel training and training equipment; warranties; transportation support; site surveys; United States (U.S.) Government and contractor engineering, logistics, and technical support services; and other related elements of logistics and program support.

(iv) Military Department: Air Force (PL-D-AAB)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: May 21, 2025

* as defined in Section 47(6) of the Arms Export Control Act.

POLICY JUSTIFICATION

Poland—GBU-39/B Small Diameter Bombs

The Government of Poland has requested to buy one thousand four hundred (1,400) GBU-39/B Small Diameter Bombs (SDB-I); and four (4) GBU-39 (T-1)/B inert practice bombs with fuzes. The following non-MDE items are also included: GBU-39 tactical training rounds; practice bombs; bomb components; containers; weapons system support; support and test equipment; spare parts, consumables and accessories, and repair and return support; classified and unclassified software delivery and support; classified and unclassified publications and technical data; personnel training and training equipment; warranties; transportation support; site surveys; U.S. Government and contractor engineering, logistics, and technical support services; and other related elements of logistics and program support. The estimated total cost is $180 million.

This proposed sale will support the foreign policy goals and national security of the U.S. by improving the security of a NATO Ally that is a force for political and economic stability in Europe.

The proposed sale will improve Poland's capability to meet current and future threats by enhancing its capacity to conduct effective air-to-ground strikes, reinforcing its capability to protect Polish sovereign territory, and improving its ability to meet NATO requirements. Poland will have no difficulty absorbing these articles into its armed forces.

The proposed sale of this equipment and support will not alter the basic military balance in the region.

The principal contractor will be The Boeing Corporation, located in St. Louis, MO. At this time, the U.S. Government is not aware of any offset agreement proposed in connection with this potential sale. Any offset agreement will be defined in negotiations between the purchaser and the contractor.

Implementation of this proposed sale will not require the assignment of any additional U.S. Government or contractor representatives to Poland.

There will be no adverse impact on U.S. defense readiness as a result of this proposed sale.

Transmittal No. 25-29

Notice of Proposed Issuance of Letter of Offer Pursuant to Section 36(b)(1) of the Arms Export Control Act

Annex

Item No. vii

(vii) Sensitivity of Technology:

1. The GBU-39/B Small Diameter Bomb I (SDB-I) is a 250-pound GPS-aided inertial navigation system with precise positioning service provided by Selective Availability Anti-Spoofing Module or M-Code. It is a small autonomous, day or night, adverse weather, conventional, air-to-ground precision glide weapon able to strike fixed and stationary re-locatable non-hardened targets from standoff ranges. It is intended to provide aircraft with an ability to carry a high number of bombs. Aircraft can carry four SDBs in place of one 2,000-pound bomb.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Poland can provide substantially the same degree of protection for the sensitive technology being released as the U.S. Government. This sale is necessary in furtherance of the U.S. foreign policy and national security objectives outlined in the Policy Justification.

5. All defense articles and services listed in this transmittal have been authorized for release and export to the Government of Poland.

[FR Doc. 2026-01334 Filed 1-23-26; 8:45 am]

BILLING CODE 6001-FR-P